DEPARTMENT OF TRANSPORTATION

Federal Aviation Administration

14 CFR Part 39

[Docket No. 2003-NM-96-AD; Amendment 39-13679; AD 2004-12-18]

RIN 2120-AA64

Airworthiness Directives; Empresa Brasileira de Aeronautica S.A. (EMBRAER) Model EMB-120 Series Airplanes

AGENCY: Federal Aviation Administration, DOT.

ACTION: Final rule.

SUMMARY: This amendment adopts a new airworthiness directive (AD), applicable to certain EMBRAER Model EMB-120 series airplanes, that requires installing three new vertical cargo nets in cargo-configured cabins. This action is necessary to prevent significant movement of cargo during operation, which could result in loss of control of the airplane or injury to the flightcrew. This action is intended to address the identified unsafe condition.

DATES: Effective July 27, 2004.

The incorporation by reference of certain publications listed in the regulations is approved by the Director of the Federal Register as of July 27, 2004.

ADDRESSES: The service information referenced in this AD may be obtained from Empresa Brasileira de Aeronautica S.A. (EMBRAER), P.O. Box 343-CEP 12.225, Sao Jose dos Campos—SP, Brazil. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain EMBRAER Model EMB-120 series airplanes was published in the Federal Register on April 6, 2004 (69 FR 17991). That action proposed to require installing three new vertical cargo nets in cargo-configured cabins.

Comments

Interested persons have been afforded an opportunity to participate in the making of this amendment. No comments were submitted in response to the proposal or the FAA's determination of the cost to the public.

Conclusion

The FAA has determined that air safety and the public interest require the adoption of the rule as proposed.

Cost Impact

The FAA estimates that 153 airplanes of U.S. registry will be affected by this AD, that it will take approximately 5 work hours per airplane to accomplish the required installation, and that the average labor rate is $65 per work hour. Required parts will cost between $2,250 and $4,570, depending on the configuration of the airplane. Based on these figures, the cost impact of the AD on U.S. operators is estimated to be between $393,975 and $748,935, or between $2,575 and $4,895 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no affected “CTA Version” airplanes on the U.S. Register (as listed in the applicability of EMBRAER Service Bulletin 120-25-0257, dated April 30, 2002). However, if an affected airplane is imported and placed on the U.S. Register in the future, the required actions will take about 9 work hours, at an average labor rate of $65 per work hour. Required parts will cost about $6,663 per airplane. Based on these figures, we estimate the cost of this AD to be $7,248 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-18 Empresa Brasileira De Aeronautica S.A. (EMBRAER): Amendment 39-13679. Docket 2003-NM-96-AD.

Applicability: Model EMB-120 series airplanes, as listed in EMBRAER Service Bulletin 120-25-0255, dated March 5, 2002; and EMBRAER Service bulletin 120-25-0257, dated April 30, 2002; certificated in any category.

Compliance: Required as indicated, unless accomplished previously.

To prevent significant movement of cargo during operations, which could result in loss of control of the airplane or injury to the flightcrew, accomplish the following:

Installation

(a) Within 30 days after the effective date of this AD: Install three new vertical cargo nets by doing all the actions in and per the Accomplishment Instructions of EMBRAER Service Bulletin 120-25-0255, dated March 5, 2002; or EMBRAER Service Bulletin 120-25-0257, dated April 30, 2002; as applicable.

Alternative Methods of Compliance

(b) In accordance with 14 CFR 39.19, the Manager, International Branch, ANM-116, FAA, Transport Airplane Directorate, is authorized to approve alternative methods of compliance for this AD.

Incorporation by Reference

(c) The actions shall be done in accordance with EMBRAER Service Bulletin 120-25-0255, dated March 5, 2002; or EMBRAER Service Bulletin 120-25-0257, dated April 30, 2002; as applicable. This incorporation by reference was approved by the Director of the Federal Register in accordance with 5 U.S.C. 552(a) and 1 CFR part 51. Copies may be obtained from Empresa Brasileira de Aeronautica S.A. (EMBRAER), P.O. Box 343-CEP 12.225, Sao Jose dos Campos—SP, Brazil. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in Brazilian airworthiness directive 2001-02-02R1, dated April 22, 2003.

Effective Date

(d) This amendment becomes effective on July 27, 2004.

Issued in Renton, Washington, on June 9, 2004.
Kalene C. Yanamura,
Acting Manager, Transport Airplane Directorate, Aircraft Certification Service.

[FR Doc. 04-13700 Filed 6-21-04; 8:45 am]

BILLING CODE 4910-13-P